DEPARTMENT OF COMMERCE

National Oceanic and Atmospheric Administration

50 CFR Part 622

[Docket No. 000616183-0183-01; I.D. 053000E]

RIN 0648-AN35

Fisheries of the Caribbean, Gulf of Mexico, and South Atlantic; Snapper-Grouper Fishery of the South Atlantic; Special Management Zones

AGENCY: National Marine Fisheries Service (NMFS), National Oceanic and Atmospheric Administration (NOAA), Commerce.

ACTION: Proposed rule; request for comments.

SUMMARY: In accordance with the framework procedure of the Fishery Management Plan for the Snapper-Grouper Fishery of the South Atlantic Region (FMP), NMFS proposes to establish 12 new special management zones (SMZs) at the sites of artificial reefs (ARs) in the exclusive economic zone (EEZ) off Georgia; to revise the boundaries of the 7 existing SMZs that are in the EEZ off Georgia; to restrict fishing in the new and revised SMZs to rod and reel and spearfishing gear, including powerheads; and within these SMZs, to limit the harvest and possession of South Atlantic snapper-grouper taken by powerheads to the applicable bag limits. NMFS also proposes establishing a 30-day deadline for resolving deficiencies related to an application and a 60-day deadline for correcting deficiencies regarding automatic renewals of permits. The intended effects are to promote orderly use of the fishery resources on and around the ARs and SMZs, to reduce potential user-group conflicts, and to maintain the socioeconomic benefits of the ARs and SMZs to the maximum extent practicable.

DATES: Written comments must be received no later than 4:30 p.m. eastern standard time, on August 2, 2000.

ADDRESSES: Comments on the proposed rule may be sent to the Southeast Regional Office, NMFS, 9721 Executive Center Drive N., St. Petersburg, FL 33702. Comments may also be sent via fax to 727-570-5583. Comments will not be accepted if submitted via e-mail or Internet.

Comments regarding the collection-of-information requirements contained in this rule should be sent to Roy Crabtree, NMFS, 9721 Executive Center Drive N., St. Petersburg, FL 33702, and to the Office of Information and Regulatory Affairs, Office of Management and Budget (OMB), Washington, DC 20503 (Attention: NOAA Desk Officer).

Requests for copies of the framework regulatory amendment, which includes an environmental assessment, a regulatory impact review, a social impact assessment/fishery impact statement, and a Monitoring Team Report should be sent to the South Atlantic Fishery Management Council, Southpark Building, One Southpark Circle, Suite 306, Charleston, SC 29407-4699; Phone: 803-571-4366; Fax: 803-769-4520.

FOR FURTHER INFORMATION CONTACT: Dr. Peter J. Eldridge, Phone: 727-570-5305, Fax: 727-570-5583, E-mail Peter.Eldridge@noaa.gov.

SUPPLEMENTARY INFORMATION: The fisheries for snapper-grouper species in the EEZ off the southern Atlantic states are regulated under the FMP. The FMP was prepared by the South Atlantic Fishery Management Council (Council) and is implemented under the authority of the Magnuson-Stevens Fishery Conservation and Management Act (Magnuson-Stevens Act) by regulations at 50 CFR part 622.

New and Revised SMZs

In accordance with the FMP framework procedures, the Council recommended that the Regional Administrator, Southeast Region, NMFS (RA), establish 12 new SMZs and modify the boundaries of the 7 existing SMZs in the EEZ off Georgia. The Council's recommendation is based on a request from the Georgia Department of Natural Resources (GADNR). Fishing in the new and revised SMZs would be restricted to specified gear.

The new SMZs in the EEZ off Georgia would be, and the existing SMZs whose boundaries would be modified are, at the sites of ARs constructed by the GADNR. The ARs were constructed for the purpose of enhancing fishing opportunities for offshore sport fishermen. The ARs in the EEZ off Georgia are on an expansive shelf area that has large areas devoid of any live/hard bottom. Prior to establishment of the ARs, these areas did not support any significant fisheries.

Thus, these ARs create fishing opportunities in the areas where they are placed that would not exist otherwise and may increase the biological production of fish in the long term. They are expensive to construct. The enhanced fishing benefits created by ARs can be dissipated rapidly by use of highly efficient commercial fishing gear with the capacity to harvest large amounts of fish in a short period of time, thereby reducing catch-per-unit-effort for other users. The use of such gear can disrupt, and potentially eliminate, the intended, long-term fishing benefits and can jeopardize the incentive for development of ARs. In addition, use of commercial fishing gear such as bottom longlines, gillnets, or trawls, is not suitable for use on ARs because such gear tends to foul on the AR structure and with other gear. Restrictions on the use of such gear are necessary to preserve the intended benefits of ARs.

The Council proposes to modify the boundaries of 7 existing SMZs in the EEZ off Georgia to conform to the boundaries specified in GADNR's permits from the Corps of Engineers (COE) for placement of these ARs. Since NOAA nautical charts identify SMZs using the COE permit coordinates, compliance and enforcement of the SMZs would be facilitated by these minor modifications. Each of the revised SMZs would be enlarged by a small amount, but, in no case would the enlargement exceed 1.5 square nautical miles. The enlarged SMZs were requested by GADNR and approved by the COE to disperse fishing pressure further and to create habitat with adequate forage zones. As with the current sites, the expanded boundaries would encompass only flat, sand-shell expanses where little or no fishing occurs.

Authorized Fishing Gear

Fishing in the SMZs in the EEZ off Georgia would be restricted to rod and reel, including manual, electric, and hydraulic reels, and spearfishing gear, including powerheads. Further, within these SMZs, the harvest and possession of South Atlantic snapper-grouper taken by powerheads would be limited to the applicable bag limits. Thus, the maximum amount of snapper-grouper that a person aboard a commercial vessel could take by powerhead from an SMZ would be the recreational bag limit. Currently, in the existing SMZs in the EEZ off Georgia, there is no limitation on the use of powerheads to harvest snapper-grouper commercially. The use of powerheads, a highly efficient gear, can quickly overharvest already limited snapper-grouper species, particularly amberjack. Limitations on commercial gear, including powerheads, would better maintain the availability of artificial reef resources and more equitably distribute them among greater numbers of users over a longer period of time.

Monitoring Team Report

In accordance with the FMP, the monitoring team appointed by the Council evaluated GADNR's request in consideration of the following criteria: (1) Fairness and equity; (2) promotion of conservation; (3) prevention of excessive shares; (4) consistency with the objectives of the FMP, the Magnuson-Stevens Act, and other applicable law; (5) suitability of the natural bottom in and surrounding the areas and impacts on historical uses; and (6) cumulative impacts. A copy of the monitoring team's report is available (see ADDRESSES).

After consideration of all relevant information, including the Monitoring Team Report, other supporting data, and comments received during public hearings, committee meetings, and Council meetings, the Council voted to recommend to the RA that GADNR's request be approved. Accordingly, the proposed new and revised SMZs and the management measures applicable to them are published for public comment.

Additional Changes to Part 622 Proposed by NMFS

In § 622.4, NMFS proposes revising paragraph (h) relating to renewals of permits, licenses, or endorsements. Paragraph (h) provides applicants the opportunity to correct deficiencies that would otherwise preclude renewals. However, there is no deadline specified for resolving the deficiencies. Therefore, a pending renewal could be left unresolved for extended periods. This could circumvent the intent of renewing a permit, license, or endorsement in a timely manner. NMFS proposes establishing a 30-day deadline for resolving deficiencies related to an application and a 60-day deadline for correcting deficiencies regarding automatic renewals (that may involve more time-consuming issues related to reporting requirements). NMFS also proposes to reorganize paragraph (h) for clarity.

NMFS also corrects the telephone number in §§ 622.17(b)(1) introductory text and 622.41(a)(4) introductory text to reflect a change in area code.

Classification

This proposed rule has been determined to be not significant for purposes of E.O. 12866.

Notwithstanding any other provision of law, no person is required to respond to, nor shall a person be subject to a penalty for failure to comply with, a collection-of-information subject to the requirements of the Paperwork Reduction Act (PRA) unless that collection of information displays a currently valid OMB control number.

This proposed rule makes minor revisions to an existing collection-of-information requirement subject to review and approval by OMB under Control Number 0648-0205. Public reporting burden for submitting permit applications is estimated to average 20 minutes per response, including the time for reviewing instructions, searching existing data sources, gathering and maintaining the data needed, and completing and reviewing the collection of information. Send comments regarding this burden estimate, or any other aspect of this data collection, including suggestions for reducing the burden, to NMFS and OMB (see ADDRESSES).

The Assistant General Counsel for Legislation and Regulation of the Department of Commerce certified to the Chief Counsel for Advocacy of the Small Business Administration that this proposed rule, if adopted, would not have a significant economic impact on a substantial number of small entities as follows:

This proposed action will establish 12 new SMZs at the sites of ARs in the EEZ off Georgia, revise the boundaries of the 7 existing SMZs that are in the EEZ off Georgia, and restrict fishing in the new and revised SMZs to rod and reel and spearfishing gear, including powerheads. The 17 AR sites cover a total area of about 80 square nautical miles. These sites were originally established as recreational fishing areas, and the purpose of the proposed rule is to maintain these areas mainly as recreational fishing areas by specifying the allowable fishing methods that can be used by fishermen when fishing within the boundaries of the artificial reef sites. The allowable gears are hand-held hook and line and spearfishing gears, including powerheads. The catch by the users of powerheads will be restricted to the recreational bag limit for all species having a bag limit. By implication, certain commercial gears, including longlines, bandit rigs and the use of powerheads to take commercial quantities of fish are prohibited.

According to information supplied by GADNR to NMFS, there is almost no commercial fishing activity on these artificial reefs at the present time. Therefore, the actual effect of the proposed rule would be to maintain the status quo in terms of the current users of these sites (recreational fishermen for the most part). In terms of the use of commercial fishing gear that would be prohibited, the information supplied by GADNR indicates that there is no commercial fishing activity by fishermen using bandit rigs or longlines at these sites. GADNR's information further indicates that one or two commercial fishermen fish on one or two of the artificial reef sites using powerheads. These fishermen use the areas during the period May to October and target greater amberjack. A total of 349 documented vessels and an unknown number of small fishing craft commercially fish in Georgia waters and most of these commercial fishing activities represent individual small business entities. Since only one or two of over 349 small entities are expected to be impacted by the proposed rule, a substantial number of small entities are not expected to be impacted. There are no large business entities engaged in commercial fishing in Georgia, so there cannot be any disproportional impacts between large entities and the one or two small entities expected to be impacted. Based on the available information, NMFS has concluded that the small amount of current commercial fishing activity reported by GADNR does not constitute a case where this proposed rule, if implemented, would have a significant negative impact on a substantial number of small entities.

As a result, a regulatory flexibility analysis was not prepared.

The President has directed Federal agencies to use plain language in their communications with the public, including regulations. To comply with this directive, we seek public comment on any ambiguity or unnecessary complexity arising from the language used in this rule. Comments should be sent to the Southeast Regional Office, NMFS, 9721 Executive Center Drive N., St. Petersburg, FL 33702.

List of Subjects in 50 CFR Part 622

Fisheries, Fishing, Puerto Rico, Reporting and recordkeeping requirements, Virgin Islands.

Dated: June 27, 2000.
Andrew A. Rosenberg,
Deputy Assistant Administrator for Fisheries, National Marine Fisheries Service.

For the reasons set out in the preamble, 50 CFR part 622 is proposed to be amended as follows:

PART 622—FISHERIES OF THE CARIBBEAN, GULF, AND SOUTH ATLANTIC

1. The authority citation for part 622 continues to read as follows:

Authority: 16 U.S.C. 1801 et seq.

2. In § 622.4, paragraph (h) is revised to read as follows:

§ 622.4 Permits and fees.

* * * * *

(h) Renewal. Although a permit, license, or endorsement required by this section is issued on an annual basis, an application for its renewal is required only every 2 years. In the interim years, renewal is automatic (without application) for a vessel owner or dealer who has met the specific requirements for the requested permit, license, or endorsement, who has submitted all reports required under the Magnuson Act, and who is not subject to a sanction or denial under paragraph (j) of this section. An owner or dealer whose permit, license, or endorsement is expiring will be mailed a notification by the RA approximately 2 months prior to its expiration. That notification will advise the status of the renewal. That is, the notification will advise that the renewal will be issued without further action by the owner or dealer (automatic renewal), that the permit, license, or endorsement is ineligible for automatic renewal, or that a new application is required.

(1) If eligible for automatic renewal. If the RA's notification indicates that the owner's or dealer's permit, license, or endorsement is eligible for automatic renewal, the RA will mail the automatically renewed permit, license, or endorsement approximately 1 month prior to expiration of the old permit, license, or endorsement.

(2) If ineligible for automatic renewal. If the RA's notification indicates that the owner's or dealer's permit, license, or endorsement is ineligible for automatic renewal, the notification will specify the reasons and will provide an opportunity for correction of any deficiencies. If the owner or dealer does not correct such deficiencies within 60 days after the date of the RA's notification, the renewal will be considered abandoned. A permit, license, or endorsement that is not renewed within the applicable deadline will not be reissued.

(3) If new application is required. If the RA's notification indicates that a new application is required, the notification will include a preprinted renewal application. If the RA receives an incomplete application, the RA will notify the applicant of the deficiency. If the applicant fails to correct the deficiency within 30 days of the date of the RA's letter of notification, the application will be considered abandoned. A permit, license, or endorsement that is not renewed within the applicable deadline will not be reissued.

(4) If notification is not received. A vessel owner or dealer who does not receive a notification from the RA regarding status of renewal of a permit, license, or endorsement by 45 days prior to expiration of the current permit must contact the RA.

* * * * *

3. In § 622.35, paragraphs (e)(1)(xii) through (e)(1)(xviii) are revised and paragraphs (e)(1)(xl) through (e)(1)(li) and (e)(2)(v) are added to read as follows:

§ 622.35 South Atlantic EEZ seasonal and/or area closures.

* * * * *

(e) * * *

(1) * * *

(xii) Artificial Reef—A is bounded on the north by 30°57.4' N. lat.; on the south by 30°55.4' N. lat.; on the east by 81°13.9' W. long.; and on the west by 81°16.3' W. long.

(xiii) Artificial Reef—C is bounded on the north by 30°52.0' N. lat.; on the south by 30°50.0' N. lat.; on the east by 81°08.5' W. long.; and on the west by 81°10.9' W. long.

(xiv) Artificial Reef—G is bounded on the north by 30°00.0' N. lat.; on the south by 30°58.0' N. lat.; on the east by 80°56.8' W. long.; and on the west by 80°59.2' W. long.

(xv) Artificial Reef—F is bounded on the north by 31°06.8' N. lat.; on the south by 31°04.8' N. lat.; on the east by 81°10.5' W. long.; and on the west by 81°13.4' W. long.

(xvi) Artificial Reef—J is bounded on the north by 31°36.7' N. lat.; on the south by 31°34.7' N. lat.; on the east by 80°47.3' W. long.; and on the west by 80°50.1' W. long.

(xvii) Artificial Reef—L is bounded on the north by 31°46.0' N. lat.; on the south by 31°44.0' N. lat.; on the east by 80°34.7' W. long.; and on the west by 80°37.1' W. long.

(xviii) Artificial Reef—KC is bounded on the north by 31°51.2' N. lat.; on the south by 31°49.2' N. lat.; on the east by 80°45.3' W. long.; and on the west by 80°47.7' W. long.

* * * * *

(xl) Artificial Reef—ALT is bounded on the north by 31°18.6' N. lat.; on the south by 31°16.6' N. lat.; on the east by 81°07.0' W. long.; and on the west by 81°09.4' W. long.

(xli) Artificial Reef—CAT is bounded on the north by 31°40.2' N. lat.; on the south by 31°38.2' N. lat.; on the east by 80°56.2' W. long.; and on the west by 80°58.6' W. long.

(xlii) Artificial Reef—CCA is bounded on the north by 31°43.7' N. lat.; on the south by 31°41.7' N. lat.; on the east by 80°40.0' W. long.; and on the west by 80°42.3' W. long.

(xliii) Artificial Reef—DRH is bounded on the north by 31°18.0' N. lat.; on the south by 31°16.0' N. lat.; on the east by 80°56.6' W. long.; and on the west by 80°59.0' W. long.

(xliv) Artificial Reef—DUA is bounded on the north by 31°47.8' N. lat.; on the south by 31°45.8' N. lat.; on the east by 80°52.1' W. long.; and on the west by 80°54.5' W. long.

(xlv) Artificial Reef—DW is bounded on the north by 31°22.8' N. lat.; on the south by 31°20.3' N. lat.; on the east by 79°49.8' W. long.; and on the west by 79°51.1' W. long.

(xlvi) Artificial Reef—KBY is bounded on the north by 30°48.6' N. lat.; on the south by 30°46.6' N. lat.; on the east by 81°15.0' W. long.; and on the west by 81°17.4' W. long.

(xlvii) Artificial Reef—KTK is bounded on the north by 31°31.3' N. lat.; on the south by 31°29.3' N. lat.; on the east by 80°59.1' W. long.; and on the west by 81°01.5' W. long.

(xlviii) Artificial Reef—MRY is bounded on the north by 30°47.5' N. lat.; on the south by 30°45.5' N. lat.; on the east by 81°05.5' W. long.; and on the west by 81°07.8' W. long.

(xlix) Artificial Reef—SAV is bounded on the north by 31°55.4' N. lat.; on the south by 31°53.4' N. lat.; on the east by 80°45.2' W. long.; and on the west by 80°47.6' W. long.

(l) Artificial Reef—SFC is bounded on the north by 31°00.8' N. lat.; on the south by 30°59.8' N. lat.; on the east by 81°02.2' W. long.; and on the west by 81°03.4' W. long.

(li) Artificial Reef—WW is bounded on the north by 31°43.5' N. lat.; on the south by 31°42.2' N. lat.; on the east by 79°57.7' W. long.; and on the west by 79°59.3' W. long.

* * * * *

(2) * * *

(v) In the SMZs specified in paragraphs (e)(1)(xii) through (e)(1)(xviii) and (e)(1)(xl) through (e)(1)(li) of this section, the possession of South Atlantic snapper-grouper taken with a powerhead is limited to the bag limits specified in § 622.39(d)(1).

* * * * *

4. In § 622.39, paragraph (a)(4) is added to read as follows:

§ 622.39 Bag and possession limits.

(a) * * *

(4) Paragraph (a)(1) of this section notwithstanding, a person aboard a vessel for which a commercial permit for South Atlantic snapper-grouper has been issued must comply with the bag limits specified in paragraph (d)(1) of this section for South Atlantic snapper-grouper taken with a powerhead, regardless of where taken, when such snapper-grouper are possessed in an SMZ specified in § 622.35(e)(1)(xii) through (e)(1)(xviii) or (e)(1)(xl) through (e)(1)(li).

* * * * *

§§ 622.17 and 622.41 [Amended]

5. In addition to the amendments set forth above, in 50 CFR part 622, remove the telephone number, “813-570-5344”, and add in its place “727-570-5344” in the following places:

(a) Section 622.17(b)(1) introductory text; and

(b) Section 622.41(a)(4) introductory text.

[FR Doc. 00-16773 Filed 6-30-00; 8:45 am]

BILLING CODE 3510-22-F